ENVIRONMENTAL PROTECTION AGENCY

[FRL-9168-3]

Proposed Administrative Cost Recovery Settlement Under Section 122(h) of the Comprehensive Environmental Response Compensation and Liability Act, as Amended, 42 U.S.C. 9622(h), Doe Run Resources Corporation, Middlebrook, MO

AGENCY: Environmental Protection Agency (EPA).

ACTION: Notice; request for public comment.

SUMMARY: In accordance with Section 122(i) of the Comprehensive Environmental Response Compensation and Liability Act, as amended (CERCLA), 42 U.S.C. 9622(i), notice is hereby given of a proposed administrative settlement with Doe Run Resources Corporation (Doe Run), for recovery of past response costs concerning the response actions taken by Doe Run to address lead contamination associated with a former railhead transport, storage and loading area in Middlebrook, Missouri. The settlement requires Doe Run to pay the Hazardous Substances Superfund for costs incurred by the United States Environmental Protection Agency, Region 7, in response to overseeing and investigating this response. The settlement requires Doe Run to pay $225,429.11, plus applicable interest, to the Hazardous Substances Superfund. The settlement includes a covenant not to sue the settling party pursuant to Section 107(a) of CERCLA, 42 U.S.C. 9607(a). For thirty (30) days following the date of publication of this notice, EPA will receive written comments relating to the settlement. EPA will consider all comments and may modify or withdraw its consent to the settlement if comments received disclose facts or considerations which indicate that the settlement is inappropriate, improper, or inadequate. EPA's response to any comments received will be available for public inspection at the EPA Region 7 office located at 901 N. 5th Street, Kansas City, Kansas.

DATES: Comments must be submitted on or before July 26, 2010.

ADDRESSES: The proposed settlement is available for public inspection at the EPA Region 7 office, 901 N. 5th Street, Kansas City, Kansas, Monday through Friday, between the hours of 8 a.m. through 4:30 p.m. A copy of the proposed settlement may be obtained from the Regional Hearing Clerk, 901 N. 5th Street, Kansas City, Kansas, (913) 551-7567. Requests should reference the Doe Run Resources Corporation, Middlebrook Railhead, EPA Docket No. CERCLA-07-2010-0008. Comments should be addressed to: Dan Breedlove, Assistant Regional Counsel, Office of Regional Counsel, 901 N. 5th Street, Kansas City, Kansas 66101.

FOR FURTHER INFORMATION CONTACT: Dan Breedlove, at telephone: (913) 551-7172; fax number: (913) 551-7925/Attn: Dan Breedlove; E-mail address: http://www.breedlove.dan@epa.gov.

Dated: June 11, 2010.
Cecilia Tapia,
Division Director, Superfund Division, Region 7.

[FR Doc. 2010-15467 Filed 6-24-10; 8:45 am]

BILLING CODE 6560-50-P